DEPARTMENT OF ENERGY

Federal Energy Regulatory Commission

[Docket No. PR00-10-000]

PG&E West Texas Pipeline, L.P.; Notice of Changes to Statement of Operating Conditions

February 11, 2000.

Take notice that on December 21, 1999, PG&E West Texas Pipeline, L.P. (PG&E) filed a revised Statement of Operating Conditions to reflect operational changes subsequent to its acquisition in 1997 by PG&E Corporation.

Any person desiring to participate in this proceeding must file a motion to intervene with the Federal Energy Regulatory Commission, 888 First Street, NE., Washington, DC 20426 in accordance with sections 385.211 and 385.214 of the Commission's Rules of Practice and Procedures. All motions must be filed with the Secretary of the Commission on or before February 28, 2000. Copies of this filing are on file with the Commission and are available for public inspection in the Public Reference Room. This filing may be viewed on the web at http://www.ferc.fed.us/online/rims.htm (call 202-208-2222 for assistance).

Linwood A. Watson, Jr.,
Acting Secretary.

[FR Doc. 00-3767 Filed 2-16-00; 8:45 am]

BILLING CODE 6717-01-M